DEPARTMENT OF EDUCATION

Applications for New Awards; Statewide Family Engagement Centers

AGENCY: Office of Innovation and Improvement, Department of Education.

ACTION: Notice.

SUMMARY: The Department of Education (Department) is issuing a notice inviting applications for fiscal year (FY) 2018 for the Statewide Family Engagement Centers (SFEC) program, Catalog of Federal Domestic Assistance (CFDA) number 84.310A.

DATES:

Applications Available: June 28, 2018.

Deadline for Notice of Intent to Apply: July 13, 2018.

Deadline for Transmittal of Applications: July 30, 2018.

Pre-Application Webinar Information: For information about the pre-application webinar, visit the SFEC website at: https://innovation.ed.gov/statewide-family-engagement-centers-program/.

ADDRESSES: For the addresses for obtaining and submitting an application, please refer to our Common Instructions for Applicants to Department of Education Discretionary Grant Programs, published in the Federal Register on February 12, 2018 (83 FR 6003), and available at www.gpo.gov/fdsys/pkg/FR-2018-02-12/pdf/2018-02558.pdf.

FOR FURTHER INFORMATION CONTACT: Jane Hodgdon, U.S. Department of Education, 400 Maryland Avenue SW, Room 4W248, Washington, DC 20202-5970. Telephone: (202) 453-6620. Email: SFEC@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The SFEC program is authorized under title IV, part E of the Elementary and Secondary Education Act of 1965, as amended (ESEA). The purpose of the SFEC program is to provide financial support to organizations that provide technical assistance and training to State educational agencies (SEAs) and local educational agencies (LEAs) in the implementation and enhancement of systemic and effective family engagement policies, programs, and activities that lead to improvements in student development and academic achievement. The Secretary is authorized to award grants to statewide organizations (or consortia of such organizations) in partnership with an SEA to establish SFECs that (1) carry out parent education and family engagement in education programs, and (2) provide comprehensive training and technical assistance to SEAs, LEAs, schools identified by SEAs and LEAs, organizations that support family-school partnerships, and other such programs.

Background: The SFEC program seeks to promote high-impact cradle-to-career family, school, and community engagement by funding centers that build the capacity of all stakeholders—including families, SEAs, LEAs, school-level staff and personnel, and community based organizations—to engage in effective partnerships that support student achievement and school improvement and increase the number of high-quality educational options available to families.

Family, school, and community engagement must be viewed as a shared responsibility among all parties, in order to be effective. The engagement should be continuous from birth to young adulthood and should take place wherever children learn—at home, in school, and in their community.

The Department's Dual Capacity-Building Framework for Family-School Partnerships ¹ identifies several key conditions essential to the design of effective, high-impact activities and initiatives for building the capacity of families, SEAs, LEAs, and school staff to partner in ways that support student achievement and school improvement. These conditions highlight the fact that effective, high-impact activities are purposefully designed and linked to school and LEA achievement goals (e.g., school readiness, student achievement, and school improvement).

¹ See: www2.ed.gov/documents/family-community/partners-education.pdf.

The capacity building initiatives should be embedded into the support structures and processes at the SEA and LEA levels, including training, professional development, teaching and learning, curriculum, and community collaboration. These initiatives should also operate with adequate resources, including public-private partnerships, to ensure meaningful and effective strategies that have the power to impact student learning and achievement. Building on years of research and lessons learned from programs such as Parent Information Centers,² the high-impact family engagement envisioned in SFEC requires a focus on State and local policy, as well as initiatives designed to promote parental involvement (as defined in this notice) and other direct support for parents, families, and the organizations that serve them.

² Parent Information Centers program is one of the primary vehicles under the Individuals with Disabilities Education Act (IDEA) for providing information and training to parents of children with disabilities.

In this year's SFEC competition, the Department also seeks to build an evidence base for the program by providing incentives to applicants that propose: (1) Projects that are supported by evidence and (2) robust evaluations. Such projects would, if well-implemented, yield promising evidence (as defined in this notice). To this end, we include a competitive preference priority encouraging projects that are based on evidence, with a specific interest in providing families with evidence-based strategies for promoting literacy, an application requirement that requires applicants to submit a logic model as part of their applications, and a selection criterion that encourages applicants to further explain the conceptual framework outlined in the logic model. In addition, through our competitive preference priorities, we seek applications that propose to support families in making informed decisions about educational opportunities that will meet the unique needs of each student.

Priorities: This notice contains two competitive preference priorities. Under section 437(d)(1) of the General Education Provisions Act (GEPA), we are establishing Competitive Preference Priorities 1(a) and 2. Competitive Preference Priority 1(b) is from the Secretary's Final Supplemental Priorities and Definitions for Discretionary Grant Programs (Supplemental Priorities), published in the Federal Register on March 2, 2018 (83 FR 9096).

Competitive Preference Priorities: For FY 2018 and any subsequent year in which we make awards from the list of unfunded applications from this competition, these priorities are competitive preference priorities. Under 34 CFR 75.105(c)(2)(i), we award an additional three points to an application that meets either Competitive Preference Priority 1(a) or Competitive Preference Priority 1(b), and we award up to an additional three points to an application depending on how well the application meets Competitive Preference Priority 2, for a maximum of six additional points under these priorities. The total possible points for each competitive preference priority are noted in parentheses.

These priorities are:

Competitive Preference Priority 1 (0 or 3 points).

The Secretary gives priority to projects that are designed to—

(a) Create SFECs that will provide direct services to parents and families through evidence-based (as defined in this notice) activities.

(b) Provide families with evidence-based (as defined in this notice) strategies for promoting literacy. This may include providing families with access to books or other physical or digital materials or content about how to support their child's reading development, or providing family literacy activities (as defined in section 203(9) of the Workforce Innovation and Opportunity Act).

Note: An application will not receive points for both (a) and (b) under Competitive Preference Priority 1.

Competitive Preference Priority 2 (up to 3 points).

The Secretary gives priority to projects that are designed to provide families with the information and tools they need to make important decisions regarding the educational choice (as defined in this notice) that is most appropriate for their children.

Application Requirements: The following requirements (a) (b), and (d)-(g) are from section 4503 of the ESEA. Under section 437(d)(1) of GEPA, we are establishing application requirements (c), (h), (i), and (j). For FY 2018, and any subsequent year in which we make awards from the list of unfunded applications from this competition, the following application requirements apply. In order to receive funding, an applicant must include the following in its application:

(a) A description of the applicant's approach to family engagement in education.

(b) A description of how the SEA and any partner organization will support the SFEC that will be operated by the applicant including a description of the SEA's and any partner organization's commitment of such support.

(c) A description of the applicant's plan for building a statewide infrastructure for family engagement in education, that includes—

(1) Management and governance;

(2) Statewide leadership, including the development and implementation, in partnership with the SEA(s), of statewide family engagement in education policy and systemic initiatives that will provide for a continuum of services to remove barriers for family engagement in education and support school reform efforts as well as parental involvement policies under the ESEA; and

(3) Systemic services for family engagement in education, including assistance for effective participation by parents in their children's education in order to help their children meet challenging State academic standards, such as by assisting parents—

(i) To engage in activities that will improve student academic achievement, including understanding how parents can support learning in the classroom with activities at home and in after-school and extracurricular programs;

(ii) To communicate effectively with their children, teachers, school leaders, counselors, administrators, and other school personnel;

(iii) To become active participants in the development, implementation, and review of school-parent compacts, family engagement in education policies, and school planning and improvement;

(iv) To participate in the design and provision of assistance to students who are not making academic progress;

(v) To participate in State and local decision making;

(vi) To train other parents; and

(vii) In learning and using technology applied in their children's education;

(d) A description of the applicant's demonstrated experience in providing training, information, and support, to SEAs, LEAs, schools, educators, parents, and organizations on family engagement in education policies and practices that are effective for parents (including low-income parents) and families, parents of English learners, minorities, students with disabilities, homeless children and youth, children and youth in foster care, and migrant students, including evaluation results, reporting, or other data exhibiting such demonstrated experience.

(e) A description of the steps the applicant will take to target services to low-income students and parents.

(f) An assurance that the applicant will—

(1) Establish a special advisory committee, the membership of which includes—

(i) Parents, who shall constitute a majority of the members of the special advisory committee;

(ii) Representatives of education professionals with expertise in improving services for disadvantaged children;

(iii) Representatives of local elementary schools and secondary schools, including students;

(iv) Representatives of the business community; and

(v) Representatives of SEAs and LEAs;

(2) Use not less than 65 percent of the funds received under this part in each fiscal year to serve LEAs, schools, and community-based organizations that serve high concentrations of disadvantaged students, including students who are English language learners, minorities, students with disabilities, homeless children and youth, children and youth in foster care, and migrant students;

(3) Operate a SFEC of sufficient size, scope, and quality to ensure that the center is adequate to serve the SEA, LEAs, and community-based organizations;

(4) Ensure that the SFEC will retain staff with the requisite training and experience to serve parents in the State;

(5) Serve urban, suburban, and rural LEAs and schools;

(6) Work with—

(i) Other SFECs assisted under this part; and

(ii) Parent training and information centers and community parent resource centers assisted under sections 671 and 672 of the Individuals with Disabilities Education Act (20 U.S.C. 1471; 1472); and

(7) Use not less than 30 percent of the funds received under this competition for each fiscal year to establish or expand technical assistance for evidence-based (as defined in this notice) parent education programs;

(8) Provide assistance to SEAs, LEAs, and community-based organizations that support family members in supporting student achievement;

(9) Work with SEAs, LEAs, schools, educators, and parents to determine parental needs and the best means for delivery of services to address such needs;

(10) Conduct sufficient outreach to assist parents, including parents who the applicant may have a difficult time engaging with a school or LEA; and

(11) Conduct outreach to low-income students and parents, including low-income students and parents who are not proficient in English.

(g) An assurance that the applicant will conduct training programs in the community to improve adult literacy, including financial literacy.

(h) A description of how the applicant will meet program requirement (a) to obtain a non-Federal matching contribution in each fiscal year after the first fiscal year in which the project is funded.

(i) A preliminary memorandum of understanding (MOU), signed by each organization or agency with which it would partner in implementing the proposed SFEC, including the partner SEA(s), which details each partner's financial, programmatic, and long-term commitment with respect to the strategies described in the application.

(j) A logic model that identifies the key project components, explains how the key project components will lead to relevant outcomes, and informs the applicant's performance measures and project evaluation design.

Program Requirements: Program requirement (b) is from section 4504 of the ESEA. In addition, under section 437(d)(1) of the GEPA, we are establishing program requirements for a final MOU and that no SEA may partner with more than one SFEC grantee. We also are establishing a requirement for a minimum match. We note that section 4502(c) of the ESEA already requires grantees to obtain matching funds after the first year of the grant; in this notice we are establishing the specific minimum percentage of non-Federal contributions, which may be in cash or in-kind, that each grantee must secure in years two through five of the grant. For FY 2018 and any subsequent year in which we make awards from the list of unfunded applications from this competition, the following program requirements apply.

(a) Matching funds for grant renewal.

Each grantee must contribute non-Federal matching funds or in-kind donations equal to at least 15 percent of its SFEC grant award in project years two through five.

(b) Uses of funds.

Each grantee shall use the grant funds, based on the needs determined under Application Requirement (f)(9), to provide training and technical assistance to SEAs, LEAs, and organizations that support family-school partnerships; and activities, services, and training for LEAs, school leaders, educators, and parents—

(1) To assist parents in participating effectively in their children's education and to help their children meet challenging State academic standards, such as by assisting parents—

(i) To engage in activities that will improve student academic achievement, including understanding how parents can support learning in the classroom with activities at home and in after-school and extracurricular programs;

(ii) To communicate effectively with their children, teachers, school leaders, counselors, administrators, and other school personnel;

(iii) To become active participants in the development, implementation, and review of school-parent compacts, family engagement in education policies, and school planning and improvement;

(iv) To participate in the design and provision of assistance to students who are not making academic progress;

(v) To participate in State and local decision making;

(vi) To train other parents; and

(vii) In learning and using technology applied in their children's education;

(2) To develop and implement, in partnership with the SEA, statewide family engagement in education policy and systemic initiatives that will provide a continuum of services to remove barriers for family engagement in education and support school reform efforts; and

(3) To develop and implement parental involvement policies under the ESEA.

(c) Final MOU.

Within the first 12 months of the project, each grantee must submit a final MOU, signed by each organization or agency with which it is partnering to implement the SFEC, including the partner SEA(s), that details each partner's financial, programmatic, and long-term commitment.

(d) SEA partnership.

While each SFEC grantee must partner with at least one SEA, no SEA may partner with more than one SFEC grantee.

Definitions: For FY 2018 and any subsequent year in which we make awards from the list of unfunded applications from this competition, the following definitions apply. The definitions of “Local educational agency,” “Parental involvement,” and “State educational agency” are from section 8101 of the ESEA (20 U.S.C. 7801). The definition of “Educational choice” is from the Supplemental Priorities. The definition of “Evidence-based” is from sections 4503(c) and 8101(21) of the ESEA. The definitions of “Experimental study,” “Logic model,” “Performance measure,” “Performance target,” “Project,” “Project component,” “Promising evidence,” “Quasi-experimental design study,” “Relevant outcome,” and “What Works Clearinghouse Handbook” are from 34 CFR 77.1. The definition of “Family literacy activities” is from section 203(9) of the Workforce Innovation and Opportunity Act. In addition, we are establishing a definition of “Statewide organization” under section 437(d)(1) of GEPA.

Educational choice means the opportunity for a child or student (or a family member on their behalf) to create a high-quality personalized path for learning that is consistent with applicable Federal, State, and local laws; is in an educational setting that best meets the child's or student's needs; and, where possible, incorporates evidence-based activities, strategies, or interventions. Opportunities made available to a student through a grant program are those that supplement what is provided by a student's geographically assigned school or the institution in which he or she is currently enrolled and may include one or more of the options listed below:

(1) Public educational programs or courses including those offered by traditional public schools, public charter schools, public magnet schools, public online education providers, or other public education providers.

(2) Private or home-based educational programs or courses including those offered by private schools, private online providers, private tutoring providers, community or faith-based organizations, or other private education providers.

(3) Internships, apprenticeships, or other programs offering access to learning in the workplace.

(4) Part-time coursework or career preparation, offered by a public or private provider in person or through the internet or another form of distance learning, that serves as a supplement to full-time enrollment at an educational institution, as a stand-alone program leading to a credential, or as a supplement to education received in a homeschool setting.

(5) Dual or concurrent enrollment programs or early college high schools (as defined in section 8101(15) and (17) of the ESEA), or other programs that enable secondary school students to begin earning credit toward a postsecondary degree or credential prior to high school graduation.

(6) Other educational services including credit-recovery, accelerated learning, or tutoring.

Evidence-based, for purposes of this notice, means an activity, strategy, or intervention that demonstrates a statistically significant effect on improving student outcomes or other relevant outcomes based on promising evidence from at least one well-designed and well-implemented correlational study with statistical controls for selection bias.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Family literacy activities means activities that are of sufficient intensity and quality, to make sustainable improvements in the economic prospects for a family and that better enable parents or family members to support their children's learning needs, and that integrate all of the following activities:

(a) Parent or family adult education and literacy activities that lead to readiness for postsecondary education or training, career advancement, and economic self-sufficiency.

(b) Interactive literacy activities between parents or family members and their children.

(c) Training for parents or family members regarding how to be the primary teacher for their children and full partners in the education of their children.

(d) An age-appropriate education to prepare children for success in school and life experiences.

Local educational agency (LEA) means:

(a) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any SEA other than the Bureau of Indian Education.

(d) Educational Service Agencies. The term includes educational service agencies and consortia of those agencies.

(e) State educational agency. The term includes the SEA in a State in which the SEA is the sole educational agency for all public schools.

Logic model (also referred to as theory of action) means a reasonable conceptual framework that identifies key components of the proposed project (i.e., the active “ingredients” that are hypothesized to be critical to achieving the relevant outcomes) and describes the theoretical and operational relationships among the key project components and relevant outcomes.

Parental involvement means the participation of parents in regular, two-way, and meaningful communication involving student academic learning and other school activities, including ensuring—

(A) That parents play an integral role in assisting their child's learning;

(B) That parents are encouraged to be actively involved in their child's education at school;

(C) That parents are full partners in their child's education and are included, as appropriate, in decision-making and on advisory committees to assist in the education of their child; and

(D) The carrying out of other activities, such as those described in section 1116 of the ESEA.

Performance measure means any quantitative indicator, statistic, or metric used to gauge program or project performance.

Performance target means a level of performance that an applicant would seek to meet during the course of a project or as a result of a project.

Project means the activity described in the application.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(a) A practice guide prepared by WWC reporting a “strong evidence base” or “moderate evidence base” for the corresponding practice guide recommendation;

(b) An intervention report prepared by the WWC reporting a “positive effect” or “potentially positive effect” on a relevant outcome with no reporting of a “negative effect” or “potentially negative effect” on a relevant outcome; or

(c) A single study assessed by the Department, as appropriate, that—

(i) Is an experimental study, a quasi-experimental design study, or a well-designed and well-implemented correlational study with statistical controls for selection bias (e.g., a study using regression methods to account for differences between a treatment group and a comparison group); and

(ii) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

Relevant outcome means the student outcome(s) or other outcomes(s) the key project component is designed to improve, consistent with the specific goals of the program.

State educational agency (SEA) means the agency primarily responsible for the State supervision of public elementary schools and secondary schools.

Statewide organization means a public or private organization that—

(1) Provides family engagement support or services;

(2) Demonstrates capacity to provide such support or services statewide to all States participating in its proposed project; and

(3) Is not an SEA or LEA.

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation.

Waiver of Proposed Rulemaking: Under the Administrative Procedure Act (5 U.S.C. 553) the Department generally offers interested parties the opportunity to comment on proposed definitions and other requirements. Section 437(d)(1) of GEPA, however, allows the Secretary to exempt from rulemaking requirements regulations governing the first grant competition under a new or substantially revised program authority. This is the first grant competition for this program under sections 4501-4506 of the ESEA, as amended by the Every Student Succeeds Act, and, therefore, qualifies for this exemption. In order to ensure timely grant awards, the Secretary has decided to forgo public comment on the priorities, requirements and definitions under section 437(d)(1) of GEPA. These definitions and requirements will apply to the FY 2018 grant competition and any subsequent year in which we make awards from the list of unfunded applications from this competition.

Program Authority: Sections 4501-4506 of the ESEA (20 U.S.C. 7241-46).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Discretionary grants.

Estimated Available Funds: $9,700,000.

Contingent upon the availability of funds and the quality of applications, we may make additional awards in subsequent years from the list of unfunded applications from this competition.

Estimated Range of Awards: $500,000-$1,000,000 per project year.

Maximum Award: We will not make an award exceeding $1,000,000 for a single project year.

Estimated Number of Awards: 10.

Note: The Department is not bound by any estimates in this notice.

Project Period: Up to 60 months.

Continued funding of a grant under this competition after the third year will be contingent on the grantee's progress toward meeting the performance measures and targets identified in the application.

III. Eligibility Information

1. Eligible Applicants: Statewide organizations (or consortia of such organizations) in partnership with at least one SEA.

2. Cost Sharing or Matching: ESEA section 4502(c) requires that each grantee contribute non-Federal resources, which may be in cash or in-kind, towards its project for each fiscal year after the first fiscal year in which the project is funded by the Department. We are establishing a program requirement under section 437(d)(1) of GEPA that a grantee must obtain matching funds or in-kind donations equal to at least 15 percent of its grant award in project years two through five. Applicants must include a budget showing their matching contributions on an annual basis relative to the annual budget amount of SFEC grant funds in years two through five.

3. Subgrantees: A grantee under this competition may not award subgrants to entities to directly carry out project activities described in its application.

IV. Application and Submission Information

1. Application Submission Instructions: For information on how to submit an application please refer to our Common Instructions for Applicants to Department of Education Discretionary Grant Programs, published in the Federal Register on February 12, 2018 (83 FR 6003), and available at www.gpo.gov/fdsys/pkg/FR-2018-02-12/pdf/2018-02558.pdf.

2. Submission of Proprietary Information: Given the types of projects that may be proposed in applications for SFEC, your application may include business information that you consider proprietary. In 34 CFR 5.11 we define “business information” and describe the process we use in determining whether any of that information is proprietary and, thus, protected from disclosure under Exemption 4 of the Freedom of Information Act (5 U.S.C. 552, as amended).

Because we plan to make all successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. However, under 34 CFR 79.8(a), we waive intergovernmental review in order to make awards by the end of FY 2018.

4. Funding Restrictions: We reference regulations outlining funding restrictions in the Applicable Regulations section of this notice.

5. Recommended Page Limit: The application narrative (Part III of the application) is where you, the applicant, address the selection criteria that reviewers use to evaluate your application. We recommend that you (1) limit the application narrative to no more than 40 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, the preliminary MOU, the logic model, or the letters of support. However, the recommended page limit does apply to all of the application narrative.

6. Notice of Intent to Apply: The Department will be able to develop a more efficient process for reviewing grant applications if it has a better understanding of the number of entities that intend to apply for funding under this competition. Therefore, the Secretary strongly encourages each potential applicant to notify the Department of the applicant's intent to submit an application for funding by sending a short email message indicating the applicant's intent to submit an application for funding. The email need not include information regarding the content of the proposed application, only the applicant's intent to submit it. This email notification should be sent to SFEC@ed.gov with “INTENT TO APPLY” in the subject line by July 13, 2018. Applicants that do not notify us of their intent to apply may still apply for funding.

V. Application Review Information

1. Selection Criteria: The selection criteria for this competition are from 34 CFR 75.210. The maximum score for all of the selection criteria is 100 points. The maximum score for each criterion is included in parentheses following the title of the specific selection criterion. Each criterion also includes the factors that reviewers will consider in determining the extent to which an applicant meets the criterion.

Points awarded under these selection criteria are in addition to any points an applicant earns under the competitive preference priorities in this notice.

The selection criteria are as follows:

A. Quality of the Project Design (up to 30 points).

The Secretary considers the quality of the design of the proposed project. In determining the quality of the design of the proposed project, the Secretary considers—

(1) The extent to which there is a conceptual framework underlying the proposed research or demonstration activities and the quality of that framework.

(2) The extent to which the services to be provided by the proposed project reflect up-to-date knowledge from research and effective practice.

(3) The extent to which the proposed project is designed to build capacity and yield results that will extend beyond the period of Federal financial assistance.

B. Quality of the Management Plan and Project Personnel (up to 20 points).

The Secretary considers the quality of the services to be provided by the proposed project. In determining the quality of project personnel, the Secretary considers the extent to which the applicant encourages applications for employment from persons who are members of groups that have traditionally been underrepresented based on race, color, national origin, gender, age, or disability.

In addition, in determining the quality of the management plan and project personnel, the Secretary considers—

(1) How the applicant will ensure that a diversity of perspectives are brought to bear in the operation of the proposed project, including those of parents, teachers, the business community, a variety of disciplinary and professional fields, recipients or beneficiaries of services, or others, as appropriate.

(2) The extent to which the services to be provided by the proposed project involve the collaboration of appropriate partners for maximizing the effectiveness of project services.

(3) The adequacy of the management plan to achieve the objectives of the proposed project on time and within budget, including clearly defined responsibilities, timelines, and milestones for accomplishing project tasks.

(4) The qualifications, including relevant training and experience, of key project personnel.

C. Adequacy of Resources (up to 20 points).

The Secretary considers the adequacy of resources for the proposed project. In determining the adequacy of resources for the proposed project, the Secretary considers—

(1) The relevance and demonstrated commitment of each partner in the proposed project to the implementation and success of the project.

(2) The extent to which the costs are reasonable in relation to the objectives, design, and potential significance of the proposed project.

(3) The extent to which the costs are reasonable in relation to the number of persons to be served and the anticipated results and benefits.

D. Quality of the Project Evaluation (up to 30 points).

The Secretary considers the quality of the evaluation to be conducted of the proposed project. In determining the quality of the evaluation, the Secretary considers—

(1) The extent to which the methods of evaluation include the use of objective performance measures that are clearly related to the intended outcomes of the project and will produce quantitative and qualitative data to the extent possible.

(2) The extent to which the evaluation will provide performance feedback and permit periodic assessment of progress toward achieving intended outcomes.

(3) The extent to which methods of evaluation will, if well-implemented, produce promising evidence (as defined in 34 CFR 77.1(c)) about the project's effectiveness.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Additionally, as stated in Program Requirement (d), no SEA may partner with more than one SFEC grantee. We will review applications scoring within the funding range to ensure that SEAs are represented on only one funded application. If changes are necessary to a highly ranked applicant's proposed SEA partners, such changes may constitute a change in the scope and objectives of the grant, which may result in an application not being selected for funding.

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: As outlined in title IV, part E, section 4501 of the ESEA, SFEC is focused on using family engagement to improve student development and academic achievement. The program recognizes that in order to effectively and sustainably engage parents and families, grantees must use training and technical assistance to build capacity at the State and district levels to develop and implement policies, programs, and activities that are inclusive of families and lead to improvements in student development and academic achievement. SFECs must also provide direct support to parents, teachers, and others that strengthen the relationship between parents and their children's school, foster greater engagement, and assist them in meeting the educational needs of children. SFEC will coordinate its activities with activities conducted under section 1116 and other parts of the ESEA, as well as other Federal, State, and local services and programs.

Annual performance measures: (1) The number of parents who are participating in SFEC activities designed to provide them with the information necessary to understand their annual school report cards and other opportunities for engagement under section 1116 and other related ESEA provisions; (2) the number of high-impact activities or services provided to build a statewide infrastructure for systemic family engagement that includes support for SEA- and LEA-level leadership and capacity-building; (3) the number of high-impact activities or services implemented to ensure that parents are trained and can effectively engage in activities that will improve student academic achievement, to include an understanding of how they can support learning in the classroom with activities at home or outside the school generally, as well as how they can participate in State and local decision-making processes; and (4) the percentage of parents and families receiving SFEC services who report having enhanced capacity to work with schools and service providers effectively in meeting the academic and developmental needs of their children.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: June 25, 2018.
James Blew,
Acting Assistant Deputy, Secretary for Innovation and Improvement.

[FR Doc. 2018-13913 Filed 6-27-18; 8:45 am]

BILLING CODE 4000-01-P